FEDERAL COMMUNICATIONS COMMISSION

Notice of Public Information Collection(s) Being Reviewed by the Federal Communications Commission, Comments Requested

July 23, 2007.

SUMMARY: The Federal Communications Commission, as part of its continuing effort to reduce paperwork burden, invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before October 1, 2007. If you anticipate that you will be submitting comments, but find it difficult to do so within the period of time allowed by this notice, you should advise the contact listed below as soon as possible.

ADDRESSES: Direct all PRA comments to Jasmeet K. Seehra, Office of Management and Budget (OMB), Room 10236 NEOB, Washington, DC 20503, (202) 395-3123, or via fax at (202) 395-5167, or via e-mail to Jasmeet_K._Seehra@omb.eop.gov, and to Jerry Cowden, Federal Communications Commission (FCC), Room 1-B135, 445 12th Street, SW., Washington, DC 20554 or via e-mail to: PRA@fcc.gov. If you would like to obtain or view a copy of this information collection after the 60 day comment period, you may do so by visiting the FCC PRA Web page at: http://www.fcc.gov/omd/pra.

FOR FURTHER INFORMATION CONTACT: For additional information or copies of the information collection(s), send an e-mail to PRA@fcc.gov or contact Jerry Cowden at (202) 418-0447.

SUPPLEMENTARY INFORMATION: OMB Control No.: 3060-0806.

Title: Universal Service—Schools and Libraries Universal Service Program.

Form No.: FCC Forms 470 and 471.

Type of Review: Extension of a currently approved collection.

Respondents: Business or other for-profit, not-for-profit, state, local or tribal government.

Number of Respondents: 60,000 respondents.

Estimated Time per Response: Range of 10 minutes to 4.5 hours.

Frequency of Response: Recordkeeping, Third Party Disclosure, and Annual Reporting.

Obligation to Respond: Required to obtain or retain benefits.

Total Annual Burden: 470,166 hours.

Total Annual Cost: N/A.

Privacy Act Impact Assessment: N/A.

Nature and Extent of Confidentiality: There is no need for confidentiality.

Needs and Uses: This collection will be submitted as an extension after this 60 day comment period to Office of Management and Budget (OMB) in order to obtain the full three year clearance. The Commission adopted rules providing support for all telecommunications services, Internet access, and internal connections for all eligible schools and libraries. To participate in the program, schools and libraries must submit a description of the services desired to the Universal Service Administrative Company, the Administrator of the Universal Service Fund, via FCC Form 470. FCC Form 471 is submitted by schools and libraries that have ordered telecommunications services, internet access, and internal connections. The data is used by the Administrator to determine eligibility. Additionally, the Administrator collects an FCC registration number from each school and library.

Federal Communications Commission.
Marlene H. Dortch,
Secretary.

[FR Doc. E7-14548 Filed 7-31-07; 8:45 am]

BILLING CODE 6712-01-P